DEPARTMENT OF TRANSPORTATION

Office of the Secretary

Fitness Determination of Mountain Bird, Inc. d/b/a/ Salmon Air

AGENCY: Department of Transportation.

ACTION: Notice of Order to Show Cause (Order 2001-6-18) Docket OST-00-8059.

SUMMARY: The Department of Transportation is proposing to find that Mountain Bird, Inc. d/b/a Salmon Air is fit, willing, and able, to provide commuter air service under 49 U.S.C. 41738.

RESPONSES: Objections and answers to objections should be filed in Docket OST-00-8059 and addressed to the Department of Transportation Dockets, PL-401, 400 Seventh Street, SW., Washington, DC 20590, and should be served on all persons listed in Attachment A to the order. Persons wishing to file objections should do so no later than July 5, 2001.

FOR FURTHER INFORMATION CONTACT: Ms. Delores King, Air Carrier Fitness Division (X-56, Room 6401), U.S. Department of Transportation, 400 Seventh Street, SW., Washington, DC 20590, (202) 366-2343.

Dated: June 21, 2001.
Robert S. Goldner,
Special Counsel, Office of Aviation and International Affairs.

[FR Doc. 01-16085 Filed 6-26-01; 8:45 am]

BILLING CODE 4910-62-P